DEPARTMENT OF ENERGY

Federal Energy Regulatory Commission

[Project No. 6414-001]

Douglas Water Power Company; Notice of Proposed Termination of Exemption by Implied Surrender and Soliciting Comments, Motions To Intervene, and Protests

Take notice that the following hydroelectric proceeding has been initiated by the Commission and is available for public inspection:

a. Type of Proceeding: Proposed Termination of Exemption by Implied Surrender.

b. Project No: 6414-001.

c. Date Initiated: August 26, 2025.

d. Applicant: Douglas Water Power Company.

e. Name of Project: Canyon Creek Hydroelectric Project.

f. Location: The project is located on Canyon Creek in Clackamas County, Oregon. The project occupies federal lands administered by the US Forest Service.

g. Filed Pursuant to: 18 CFR 6.4.

h. Applicant Contact: Mr. Douglas Pegar, Douglas Water Power Company, P.O. Box 563, Brightwood, OR 97011.

i. FERC Contact: Rebecca Martin, (202) 502-6012, rebecca.martin@ferc.gov.

j. Resource Agency Comments: Federal, state, local and Tribal agencies are invited to file comments on the described proceeding. If an agency does not file comments within the time specified for filing comments, it will be presumed to have no comments.

k. Deadline for filing comments, motions to intervene, and protests: October 10, 2025 5:00 p.m. Eastern Time.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include the docket number P-6414-001. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

l. Description of Project Facilities: The project works include: (1) an intake structure; (2) a 12-inch-diameter, 1,950-foot-long penstock; (3) a powerhouse containing two 60-kilowatt generating units; and (4) associate electrical and transmission equipment. The project has not operated since July 2013.

m. Description of Proceeding: Douglas Water Power Company was issued an exemption from licensing on December 15, 1982. Article 5 of the exemption requires the exemptee to obtain the right to use or occupancy of any Federal lands from the administering Federal land agencies and the Commission has the right to revoke the exemption if these permissions are not obtained. In addition, Article 1 grants the Commission the right to conduct investigations with respect to any acts, complaints, facts, conditions, practices, or other matters related to the construction, operation, or maintenance of the exempt project. If any term or condition of the exemption is violated, the Commission may revoke the exemption. The Commission's Division of Dam Safety and Inspections requested information on the project on February 3, 2014, August 1, 2018, and August 31, 2024. To date none of the requested information has been filed. On April 7, 2025, the U.S. Forest Service, filed a copy of a Notice of Termination Order to Cease Occupancy and Use that ordered the exemptee to cease occupancy and use of the hydroelectric facility on Forest Service Lands. The Commission's Division of Hydropower Administration and Compliance also issued letters, on May 14, 2025 and July 17, 2025, requesting follow-up, and have not received a response. On August 19, 2025, the exemptee was notified that the Commission was going to initiate termination of the exemption by implied surrender.

n. Location of the Order Issuing License: The order may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659.

o. Individuals desiring to be included on the Commission's mailing list should so indicate by writing to the Secretary of the Commission.

p. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

q. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

r. The Commission's Office of Public Participation (OPP) supports meaningful public engagement and participation in Commission proceedings. OPP can help members of the public, including landowners, community organizations, Tribal members, and others access publicly available information and navigate Commission processes. For public inquiries and assistance with making filings such as interventions, comments, or requests for rehearing, the public is encouraged to contact OPP at (202) 502-6595 or OPP@ferc.gov.

Dated: August 26, 2025.
Debbie-Anne A. Reese,
Secretary.

[FR Doc. 2025-16638 Filed 8-28-25; 8:45 am]

BILLING CODE 6717-01-P